DEPARTMENT OF COMMERCE

National Oceanic and Atmospheric Administration

RIN 0648-XE116

International Pacific Halibut Commission Appointments

AGENCY: National Marine Fisheries Service (NMFS), National Oceanic and Atmospheric Administration (NOAA), Commerce.

ACTION: Notice of call for nominations.

SUMMARY: In May 2015, NOAA Fisheries publicly solicited nominations for two presidential appointments to serve as U.S. Commissioners to the IPHC. This multi-step nomination process is intended to provide extensive participation by stakeholders in the Pacific halibut fishery and result in the appointment of two highly qualified individuals to represent the U.S. Government in this important international fisheries management organization. The most recent IPHC public nomination process yielded two names for the two expiring seats, both re-nominations. U.S. Commissioners to the IPHC are appointed for a term not to exceed 2 years, but are eligible for reappointment. While this recent solicitation of nominations resulted in two strong candidates, NOAA Fisheries is seeking a greater number of nominations from which to propose two candidates for appointment by the President. Additionally, the lack of a larger candidate pool impacts the ability of recommending officials to propose Alternate Commissioners. The Secretary of State, in consultation with the Secretary of Commerce, may designate Alternative U.S. Commissioners to serve in the absence of duly appointed U.S. Commissioners. Nominations for IPHC U.S. Commissioner and letters of public support that have already been submitted in response to the original solicitation notice do not need to be resubmitted. Nominations are open to all qualified individuals and may include current Commissioners.

DATES: Nominations must be received by September 18, 2015. A list of nominees will be published on the NMFS Alaska Regional Office Web site (http://www.alaskafisheries.noaa.gov/) on September 23, 2015. Public comments relating to this list of nominees will be accepted until October 23, 2015.

ADDRESSES: Nominations for U.S. Commissioners to the IPHC may be made in writing to Mr. Patrick E. Moran, Office of International Affairs and Seafood Inspection, National Marine Fisheries Service, at 1315 East-West Highway, Silver Spring, MD 20910. Nominations may also be sent via fax (301-713-2313) or email (IPHC2015nominations@noaa.gov). Please send all public comments via email to IPHC2015comments@noaa.gov.

FOR FURTHER INFORMATION CONTACT: Mr. Patrick E. Moran, (301) 427-8370.

SUPPLEMENTARY INFORMATION:

Background

The IPHC is a bilateral regional fishery management organization established pursuant to the Convention between Canada and the United States for the Preservation of the Halibut Fishery of the North Pacific Ocean and Bering Sea (Convention). The Convention was signed at Ottawa, Ontario, on March 2, 1953, and was amended by a Protocol Amending the Convention signed at Washington, DC, on March 29, 1979. The Convention's central objective is to develop the stocks of Pacific halibut in waters off the west coasts of Canada and the United States to levels that will permit the optimum yield from the Pacific halibut fishery and to maintain the stocks at those levels. The IPHC fulfills this objective in part by recommending Pacific halibut fishery conservation and management measures for approval by the United States and Canada. Pursuant to the Northern Pacific Halibut Act of 1982, the Secretary of State, with the concurrence of the Secretary of Commerce, may accept or reject, on behalf of the United States, conservation and management measures recommended by the IPHC. 16 U.S.C. 773b. Measures accepted by the Secretary of State are adopted as binding regulations governing fishing for Pacific halibut in Convention waters of the United States. 16 U.S.C. 773c(b)(1). More information on the IPHC can be found at http://www.iphc.int.

Section 773a of the Northern Pacific Halibut Act of 1982 (16 U.S.C. 773a) requires that the United States be represented on the IPHC by three U.S. Commissioners. U.S. Commissioners are appointed for a term not to exceed 2 years, but are eligible for reappointment. Of the Commissioners:

(1) One must be an official of the National Oceanic and Atmospheric Administration; and

(2) Two must be knowledgeable or experienced concerning the Northern Pacific halibut fishery; of these, one must be a resident of Alaska and the other shall be a nonresident of Alaska. Of the three commissioners described in paragraphs (1) and (2), one must also be a voting member of the North Pacific Fishery Management Council.

(3) Commissioners who are not Federal employees are not considered to be Federal employees except for the purposes of injury compensation or tort claims liability as provided in section 8101 et seq. of title 5 and section 2671 et seq. of title 28.

In their official IPHC duties, Commissioners represent the interests of the United States and all of its stakeholders in the Pacific halibut fishery. These duties require a modest amount of travel (typically two or three trips per year lasting less than a week), and travel expenses are paid by the U.S. Department of State. Commissioners receive no compensation for their services.

Nomination Process

NOAA Fisheries is currently accepting nominations for two U.S. Commissioners for the IPHC who are not officials of NOAA. Successful nominees will be considered for appointment by the President and (pending Presidential action) interim designation by the Department of State.

Nomination packages should provide details of an individual's knowledge and experience in the Pacific halibut fishery. Examples of such knowledge and/or experience could include (but are not limited to) such activities as: Participation in commercial, tribal, Community Development Quota (CDQ) and/or sport and charterboat halibut fishing operations; participation in halibut processing operations; and participation in Pacific halibut management activities.

Nomination packages should document an individual's qualifications and state of residence. Self-nominations are acceptable, and current and former IPHC Commissioners are eligible for reappointment. Résumés, curriculum vitae, and/or letters of recommendation are useful but not required. Nomination packages will be evaluated on a case-by-case basis by officials in NOAA and the Department of Commerce who are familiar with the duties and responsibilities of IPHC Commissioners; evaluations will consider the aggregate of an individual's prior experience and knowledge of the Pacific halibut fishery, residency requirements, and any letters of recommendation provided. Nominees will be notified of their status (including rejection or approval) and any need for further information once the nomination process is complete.

Dated: August 13, 2015.
John Henderschedt,
Director, Office of International Affairs and Seafood Inspection, National Marine Fisheries Service.

[FR Doc. 2015-20440 Filed 8-18-15; 8:45 am]

BILLING CODE 3510-22-P